DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of October 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-55,605; RMC Mid-Atlantic, LLC, Metromont Materials, Morganton, NC

TA-W-55,580; Lear Corp., Seating Systems Div., New Castle, DE

TA-W-55,607; Creo Americas, Inc., U.S. Headquarters, a subsidiary of Creo, Inc., Billerica, MA

TA-W-55,695; Ridgefield Forest Products LLC, Ridgefield, WA

TA-W-55,716; Hi Rise Recycling Companies, Inc., Devivo Industries Div., Waterbury, CT

TA-W-55,473; Beaird Industries, Inc., Shreveport, LA

TA-W-55,546; Georgia Pacific West Corp., a subsidiary of Georgia Pacific Corp., Bellingham, WA

TA-W-55,583; Android Industries, Vienna, OH

TA-W-55,769; Blue Ridge Paper Products, Inc., Dairypak Div., Fort Worth, TX

TA-W-55,629; Alcoa, Inc., Badin Works Div., Badin, NC

TA-W-55,648; Kimberly Clark Corp., Infant Care, New Milford, CT

TA-W-55,677; Columbia Products, Inc., Dallastown, PA

TA-W-55,691; Royal Home Fashions, Plant #6, Henderson, NC

TA-W-55,319; Danaher Linear Motion Systems, a div. of The Danaher Motion Group, formerly known as Thomason Bay Company, Bay City, MI: workers engaged in the production of ball screws are denied eligibility to apply for adjustment assistance under Section 223 of the Trade Act of 1974.

The workers firm does not produce an article as required for certification under Section 222 of the Trade Act of 1974.

TA-W-55,837; Highland Clinic, APMC, Shreveport, LA

TA-W-55,669; Clientlogic Operating Corp., Asheville, NC

TA-W-55,630; Micro X, d/b/a BZ Boyz, Signal Hill, CA

TA-W-55,600; Xerox Corp., Workgroup Color Support Center, El Segundo, CA

TA-W-55,787; Bea Systems, Inc., Liberty Corner, NJ

TA-W-55,653; Providian Financial, a subsidiary of Providian Bancorp Services, Arlington, TX

TA-W-55,578; Celestica, Repair Subdivision, Little Rock, AR

TA-W-55,712; Universal Record Distributing Corp., Philadelphia, PA

TA-W-55,736; Helmuth Tool & Die T/A, Helmuth Industries, Linden, NJ

TA-W-55,719; Lanier Clothes, a division of Oxford Industries, Inc., Greenville, GA

The investigation revealed that criterion (a)(2)(A)(I.A) and (a)(2)(B)(II.A) (no employment decline) has not been met.

TA-W-55,682; Mercury Marine, Fond du Lac, WI

TA-W-55,812; Circuit Images, Inc., Boulder, CO

The investigation revealed that criterion (a)(2)(A)(I.B) (Sales or production, or both, did not decline) and (a)(2)(B)(II.B) (has shifted production to a country not under the free trade agreement with the U.S.) have not been met.

TA-W-55,598; Stillman Seal, Carlsbad, CA

Kinston, NC

The investigation revealed that criteria (a)(2)(A) (I.C) increased imports and (II.C) (has shifted production to a foreign country) have not been met.

TA-W-55,706; SECO/WARWICK Corp., Meadville, PA

TA-W-55,727; Quality Printing Co., Inc., Neenah, WI

The investigation revealed that criteria (2) has not been met. The workers firm (or subdivision) is not a supplier or downstream producer to trade-affected companies.

TA-W-55,461; Airey-Thompson Company, Inc., Los Angeles, CA

The investigation revealed that criteria (3)(A) has not been met. The workers firm (or subdivision) is not a supplier and the component parts it supplied to trade-affected companies did not account for at least 20 percent of the production or sales of the workers' firm.

TA-W-55,666; Smurfit-Stone, Protective Packaging, East Longmeadow, MA

Affirmative Determinations for Worker Adjustment Assistance

The following certifications have been issued; the date following the company name and location of each determination references the impact date for all workers of such determination.

The following certifications have been issued. The requirements of (a)(2)(A) (increased imports) of Section 222 have been met.

TA-W-55,809; R.A.G.S., Inc., Rockwell, NC: October 14, 2003.

TA-W-55,319; Danaher Linear Motion Systems, a Div. of The Danaher Motion Group, formerly known as Thomson Bay Company, Bay City, MI: “All workers engaged in the production of carriage and profiled rails who became totally or partially separated from employment on or after July 19, 2003 through two years from the date of certification are eligible to apply for adjustment assistance under Section 223 of the Trade Act of 1974.”

TA-W-55,619; Carolina Candle Lites, Thurmond, NC: September 7, 2003.

TA-W-55,758; Hooker Furniture Corp., Plywood Plant, Martinsville, VA: December 28, 2003.

TA-W-55,733; Maidenform, Inc., Jacksonville Cutting Plant, Jacksonville, FL: September 28, 2003.

TA-W-55,460; The Top-Flite Golf Company, a wholly owned subsidiary of Callaway Golf Co., Spalding Sports Worldwide, Chicopee, MA: August 11, 2003.

TA-W-55,750; Pressman Toy Corp., New Brunswick, NJ: October 6, 2003.

TA-W-55,738; Eiser, Inc., a subsidiary of Eiser Trika AB, Portland, OR: September 13, 2003.

TA-W-55,726; United States Can Company, Olive Plant, Custom and Specialty Div., including leased workers of QPS Staffing Services, Elgin, IL: September 20, 2003.

TA-W-55,655; Leggett and Platt, Inc., Workers at Advantage Technologies, Plymouth, MI: June 23, 2003.

TA-W-55,646; Dallco Industries, Inc., Everett, PA: September 17, 2003.

TA-W-55,570; Queen Manufacturing, a subsidiary of S M Company, Inc., Asheville, NC: September 7, 2003.

TA-W-55,626; CPS Color, Inc., Philadelphia, PA: September 3, 2003.

TA-W-55,668; Wentworth Mold, Inc., Central Div. USA, Grain Valley, MO: September 20, 2003.

TA-W-55,542; McGarry Machine, Inc., Portland, OR: August 31, 2003.

TA-W-55,611; KM Company, San Francisco, CA: September 1, 2003.

TA-W-55,569; S M Company, Inc., Ashville, NC: September 7, 2003.

TA-W-55,523; Meadwestvaco Corp., Garland, TX: August 30, 2003.

TA-W-55,700; Emerson Tool Co., Menominee, MI: July 6, 2004.

TA-W-55,671; Henredon Furniture Industries, Inc., Spruce Pine, NC: September 22, 2003.

TA-W-55,657; Cresent Enterprises, Inc., Division of Cresent Manufacturing Co., Gallatin, TN: September 16, 2003.

TA-W-55,581; West Point Foundry and Machine Co., West Point, GA: August 26, 2003.

TA-W-55,642; Hamby Textile Research Laboratory, Inc., Garner, NC: September 14, 2003.

TA-W-55,565; Wing Tai Company, San Francisco, CA: September 3, 2003.

TA-W-55,734; OWT Industries, Inc., Power Tool Div., including leased workers of Staffmasters USA, Inc., Pickens, SC: May 9, 2004.

TA-W-55,603; United States Can Co., Custom and Specialty Div., including leased workers from Ryan Staffing Services, Labor Ready Staffing Services, Callos Personnel and Manpower Staffing Services, New Castle, PA: September 13, 2003.

The following certifications have been issued. The requirements of (a)(2)(B) (shift in production) of Section 222 have been met.

TA-W-55,616; Wilmington Product USA, d/b/a The Northwest Company, Textile, Inc., Div., Ronda, NC: August 17, 2003.

TA-W-55,781; Walker Systems, Inc., div. of The Wiremold Company, including leased workers of Manpower, Williamstown, WV: October 12, 2003.

TA-W-55,756; Inmed Corp., d/b/a Rusch, including leased workers of Axiom and Partners in Staffing, Duluth, GA: October 7, 2003.

TA-W-55,747; Child Craft Industries, Inc., including leased workers of TBS Staffing Solutions and Employment Plus, Salem IN: September 23, 2003.

TA-W-55,701; Strattec Security Corp., Assembly Department, Milwaukee, WI: September 23, 2003.

TA-W-55,698; Ultra Wheel Co., Buena Park, CA: September 23, 2003.

TA-W-55,694; Don'l. Inc., a subsidiary of Alleson Athletic, Clayton, GA: September 22, 2003.

TA-W-55,661; Tyco Electronics, Fiber Optics Div., Somerville, NJ: September 15, 2003.

TA-W-55,641; Reeves Rubber, Albertville, AL: September 7, 2003.

TA-W-55,620; Holt Sublimation Printing and Products, Inc., including on-site leased workers from Accustaff Temporary Agency, Burling, NC: September 9, 2003.

TA-W-55,618 and TA-W-55,618B; Skip's Cutting, Inc., Warehouse, including leased workers from Performance Personnel, Olsten, Mack and Labor Ready, New Holland, PA, Skip's Cutting, Inc., New Street Office Building, including leased workers from Performance Personnel, Olsten, Mack, Labor Ready, Accountemps and Spherion, Ephrata, PA: September 14, 2004.

TA-W-55,618A; Skips Cutting, Inc., American Dyeing and Finishing Div., including leased workers from Performance Personnel, Olsten, Mack and Labor Ready, Ephrata, PA: May 15, 2004.

TA-W-55,595; Towne Square 2000, Inc., Hillsboro, TX: September 7, 2003.

TA-W-55,571; Westling Manufacturing Co., including leased Workers of ASAP Employment Services, Princeton, MN: September 2, 2003.

TA-W-55,651; Cooper Tools, Div. of Cooper Industries, Inc., Dayton, OH: September 13, 2003.

TA-W-55,778; Acorn Engineering Co., including leased workers of Olympic Staffing, City of Industry, CA: October 7, 2003.

TA-W-55,674; Winchester Electronics, a subsidiary of Northrop Grumman, including leased workers of Hamilton and Agentry, Wallingford, CT: September 22, 2003.

TA-W-55,681; Jennifer Kay, Inc., d/b/a California Waves, Endless Sun, Sizzle Beach, Pink Sands and Native Waves Div., Los Angeles, CA: September 20, 2003.

TA-W-55,702; Onsite International, including leased workers of 21st Century, El Paso, TX: September 16, 2003.

TA-W-55,589; Island Aquaculture, Inc., a subsidiary of Atlantic Salmon of Maine, formerly known as “Fjord Seafoods USA”, including leased workers of Combined Management, Southwest Harbor, ME: September 8, 2003.

TA-W-55,591; Oquossoc Hatchery, a div. of Atlantic Salmon of Maine, formerly known as “Fjord Seafoods USA”, including leased workers of Combined Management, Oquossoc, ME: September 8, 2003.

TA-W-55,636; Fleetguard Corp., subsidiary of Cummins Corp., Cookeville, TN: September 15, 2003.

TA-W-55,696; Ametek Aerospace and Power Instruments, a division of Ametek Aerospace and Defense, a div. of Ametek, Wilmington, MA: September 24, 2003.

TA-W-55,827; Sanmina-SCI, Enclosures Div., Plant 468, including leased workers of On Point Staffing, Carrollton, TX: September 23, 2003.

TA-W-55,638; DB Textiles, Madison, NC: September 15, 2003.

TA-W-55,685; Sodetal USA, Inc., Fountain Inn, SC: September 14, 2003.

TA-W-55,722; Andrew Corp., Connector & Cable Assembly Business Unit, Orland Park, IL: September 17, 2003.

TA-W-55,779; Clayson Knitting Co., Inc., Star, NC: October 5, 2003.

TA-W-55,786; Federal-Mogul Corp., Powertrain Div., including leased workers of New Ventures, Inc. and Express Personnel, LaGrange, GA: October 7, 2003.

TA-W-55,800; Ohaus Corp., including on-site leased workers from Baker Temps and Spectrum Staffing Services, Pine Brook, NJ: October 12, 2003.

TA-W-55,765 & A; Ferrania USA, Inc., Weatherford, OK and Woodbury, MN: October 7, 2003.

TA-W-55,771; Schumacher Electric Corp., Hoopeston Facility, Sheet Metal Department, Hoopeston, IL: September 14, 2003.

TA-W-55,783; Precision Wood Products, North Carolina Div., a Div. of MJB Wood Group, Fletcher, NC: October 12, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-55,696; Ametek Aerospace and Power Instruments, a Div. of Ametek Aerospace and Defense, a Div. of Ametek, Wilmington, MA

TA-W-55,636; Fleetguard Corp., Subsidiary of Cummins Corp., Cookeville, TN

TA-W-55,681; Jennifer Kay, Inc., d/b/a California Waves, Endless Sun, Sizzle Beach, Pink Sands and Native Waves Div., Los Angeles, CA

TA-W-55,674; Winchester Electronics, a subsidiary of Northrop Grumman, including leased workers of Hamilton and Agentry, Wallingford, CT

TA-W-55,641; Reeves Rubber, Albertville, AL

TA-W-55,698; Ultra Wheel Co., Buena Park, CA

TA-W-55,756; Inmed Corp., d/b/a Rusch, including leased workers of Axiom and Partners in Staffing, Duluth, GA

TA-W-55,655; Leggett and Platt, Inc., workers at Advantage Technologies, Plymouth, MI

TA-W-55,570; Queen Manufacturing, a subsidiary of S M Company, Inc., Asheville, NC

TA-W-55,542; McGarry Machine, Inc., Portland, OR

TA-W-55,569; S M Company, Inc., Asheville, NC

TA-W-55,532; Meadwestvaco Corp., Garland, TX

The Department has determined that criterion (1) of Section 246 has not been met. Workers at the firm are 50 years of age or older.

TA-W-55,589; Island Aquaculture, Inc., a subsidiary of Atlantic Salmon of Maine, formerly known as “Fjord Seafoods USA”, including leased workers of Combined Management, Southwest Harbor, ME

TA-W-55,591; Oquossoc Hatchery, a div. of Atlantic Salmon of Maine, formerly known as “Fjord Seafoods USA”, including leased workers of Combined Management, Oquossoc, ME

Since the workers are denied eligibility to apply for TAA, the workers cannot be certified eligible for ATAA.

TA-W-55,605; RMC Mid-Atlantic, LLC, Metromont Materials, Morganton, NC

TA-W-55,580; Lear Corp., Seating Systems Div., New Castle, DE

TA-W-55,607; Creo Americas, Inc., U.S. Headquarters, a subsidiary of Creo, Inc., Billerica, MA

TA-W-55,716; Hi Rise Recycling Companies, Inc., Devivo Industries Div., Waterbury, CT

TA-W-55,473; Beaird Industries, Inc., Shreveport, LA

TA-W-55,546; Georgia Pacific West Corp., a subsidiary of Georgia Pacific Corp., Bellingham, WA

TA-W-55,583; Android Industries, Vienna, OH

TA-W-55,769; Blue Ridge Paper Products, Inc., Dairypak Div., Fort Worth, TX

TA-W-55,629; Alcoa, Inc., Badin Works Div., Badin, NC

TA-W-55,648; Kimberly Clark Corp., Infant Care, New Milford, CT

TA-W-55,677; Columbia Products, Inc., Dallastown, PA

TA-W-55,691; Royal Home Fashions, Plant #6, Henderson, NC

TA-W-55,600; Xerox Corp., Workgroup Color Support Center, El Segundo, CA

TA-W-55,787; Bea Systems, Inc., Liberty Corner, NJ

TA-W-55,653; Providian Financial, a subsidiary of Providian Bancorp Services, Arlington, TX

TA-W-55,578; Celestica, Repair subdivision, Little Rock, AR

TA-W-55,712; Universal Record Distributing Corp., Philadelphia, PA

TA-W-55,812; Circuit Images, Inc., Boulder, CO

TA-W-55,736; Helmuth Tool and Die T/A, Helmuth Industries, Linden, NJ

TA-W-55,706; SECO/WARWICK Corp., Meadville, PA

TA-W-55,727; Quality Printing Co., Inc., Neenah, WI

TA-W-55,719; Lanier Clothes, a div. of Oxford Industries, Inc., Greenville, GA

TA-W-55,461; Airey-Thompson Company, Inc., Los Angeles, CA

TA-W-55,666; Smurfit-Stone, Protective Packaging, East Longmeadow, MA

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,809; R.A.G.S., Inc., Rockwell, NC: October 14, 2003.

TA-W-55,758; Hooker Furniture Corp., Plywood Plant, Martinsville, VA: December 28, 2003.

TA-W-55,733; Maidenform, Inc., Jacksonville Cutting Plant, Jacksonville, FL: September 28, 2003.

TA-W-55,460; The Top-Flite Golf Co., a wholly owned subsidiary of Callaway Golf Co., Spalding Sports Worldwide, Chicopee, MA: August 11, 2003.

TA-W-55,738; Eiser, Inc., a subsidiary of Eiser Trika AB, Portland, OR: September 13, 2003.

TA-W-55,726; United States Can Company, Olive Plant, Custom and Specialty Div., including leased workers of QPS Staffing Services, Elgin, IL: September 20, 2003.

TA-W-55,646; Dallco Industries, Inc., Everett, PA: September 17, 2003.

TA-W-55,626; CPS Color, Inc., Philadelphia, PA: September 3, 2003.

TA-W-55,668; Wentworth Mold, Inc., Central Div., USA, Grain Valley, MO: September 20, 2003.

TA-W-55,611; KM Company, San Francisco, CA: September 1, 2003.

TA-W-55,700; Emerson Tool Co., Menominee, MI: July 6, 2004.

TA-W-55,671; Henredon Furniture Industries, Inc., Spruce Pine, NC: September 22, 2003.

TA-W-55,657; Cresent Enterprises, Inc., Div. of Cresent Manufacturing Co., Gallatin, TN: September 16, 2003.

TA-W-55,581; West Point Foundry and Machine Co., West Point, GA: August 26, 2003.

TA-W-55,642; Hamby Textile Research Laboratory, Inc., Garner, NC: September 14, 2003.

TA-W-55,565; Wing Tai Company, San Francisco, CA: September 3, 2003.

TA-W-55,734; OWT Industries, Inc., Power Tool Div., including leased workers of Staffmasters USA, Inc., Pickens, SC: May 9, 2004.

TA-W-55,781; Walker Systems, Inc., div. of The Wiremold Company, including leased workers of Manpower, Williamstown, WV: October 12, 2003.

TA-W-55,603; United States Can Co., Custom and Specialty Div., including leased workers from Ryan Staffing Services, Labor Ready Staffing Services, Callos Personnel and Manpower Staffing Services, New Castle, PA: September 13, 2003.

TA-W-55,747; Child Craft Industries, Inc., including leased workers of TBS Staffing Solutions and Employment Plus, Salem, IN: September 23, 2003.

TA-W-55,701; Strattec Security Corp., Assembly Department, Milwaukee, WI: September 23, 2003.

TA-W-55,661; Tyco Electronics, Fiber Optics Div., Somerville, NJ: September 15, 2003.

TA-W-55,595; Towne Square 2000, Inc., Hillsboro, TX: September 7, 2003.

TA-W-55,571; Westland Manufacturing Co., including leased workers of ASAP Employment Services, Princeton, MN: September 2, 2003.

TA-W-55,651; Cooper Tools, Div. of Cooper Industries, Inc., Dayton, OH: September 13, 2003.

TA-W-55,778; Acorn Engineering Co., including leased workers of Olympic Staffing, City of Industry, CA: October 7, 2003.

TA-W-55,702; Onsite International, including leased workers of 21st Century, El Paso, TX: September 16, 2003.

TA-W-55,827; Sanmina-SCI, Enclosures Div., Plant 468, including leased workers of On Point Staffing, Carrollton, TX: September 23, 2003.

TA-W-55,638; DB Textiles, Madison, NC: September 15, 2003.

TA-W-55,685; Sodetal USA, Inc., Fountain Inn, SC: September 14, 2003.

TA-W-55,722; Andrew Corp., Connector and Cable Assembly Business Unit, Orland Park, IL: September 17, 2003.

TA-W-55,779; Clayson Knitting Company, Inc., Star, NC: October 5, 2003.

TA-W-55,786; Federal-Mogul Corp., Powertrain Div., including leased workers of New Ventures, Inc. and Express Personnel, LaGrange, GA: October 7, 2003.

TA-W-55,800; Ohaus Corp., including on-site leased workers from Baker Temps and Spectrum Staffing Services, Pine Brook, NJ: October 12, 2003.

TA-W-55,765; Ferrania USA, Inc., Weatherford, OK and Woodbury, MN: October 7, 2003.

TA-W-55,771; Schumacher Electric Corp., Hoopeston Facility, Sheet Metal Department, Hoopeston, IL: September 14, 2003.

TA-W-55,783; Precision Wood Products, North Carolina Div., a Div. MJB Wood Group, Fletcher, NC: October 12, 2003.

I hereby certify that the aforementioned determinations were issued during the month of October 2004. Copies of these determinations are available for inspection in Room C-5311, U.S. Department of Labor, 200 Constitution Avenue, NW., Washington, DC 20210 during normal business hours or will be mailed to persons who write to the above address.

Dated: November 4, 2004.
Timothy Sullivan,
Director, Division of Trade Adjustment Assistance.

[FR Doc. E4-3142 Filed 11-10-04; 8:45 am]

BILLING CODE 4510-30-P